DEPARTMENT OF TRANSPORTATION

Surface Transportation Board

[STB Finance Docket No. 34787]

D&I Railroad Company—Trackage Rights Exemption—BNSF Railway Company

BNSF Railway Company (BNSF) has agreed to grant 159.2 miles of limited overhead trackage rights to D&I Railroad Company (D&I) between Sioux Falls, SD, at milepost (MP) 74.1 (MP 74.1 is just north of West Junction, SD), and Wolsey, SD, at MP 707.0 (MP 707.0 is north of the diamond crossing of the Dakota, Minnesota & Eastern Corporation (DM&E) at Wolsey). The trackage rights run: between Sioux Falls, SD, and Canton, SD; between Canton, SD, and Mitchell, SD; and between Mitchell, SD, and Wolsey, SD. The trackage rights apply only to the movement of aggregates (STCC series 14219, 14412, 14413, and 14919) moving in cars in D&I's account, originating at Dell Rapids, SD, interchanged to DM&E at Wolsey, SD, and terminating at DM&E-served destinations in South Dakota (provided, however, that DM&E may transport such aggregates beyond South Dakota where necessary for DM&E's operations).

The trackage rights granted by BNSF were scheduled to become effective on or after December 6, 2005. The purpose of the trackage rights is to allow D&I to move certain shipments of aggregates from Dell Rapids to Wolsey.

As a condition to this exemption, any employees affected by the trackage rights will be protected by the conditions imposed in Norfolk and Western Ry. Co.—Trackage Rights—BN, 354 I.C.C. 605, 610-15 (1978), as modified in Mendocino Coast Ry., Inc.—Lease and Operate, 360 I.C.C. 653, 664 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34787, must be filed with the Surface Transportation Board, 1925 K Street, NW., Washington, DC 20423-0001. In addition, a copy of each pleading must be served on D&I's representative: Edward J. Krug, Krug Law Firm, PLC, 401 First Street, SE., P.O. Box 186, Cedar Rapids, IA 52406.

Board decisions and notices are available on its Web site at http://www.stb.dot.gov.

Decided: December 9, 2005.
By the Board, David M. Konschnik, Director, Office of Proceedings.
Vernon A. Williams,
Secretary.

[FR Doc. 05-24146 Filed 12-16-05; 8:45 am]

BILLING CODE 4915-01-P